DEPARTMENT OF STATE

[Public Notice 5865]

Notice of Receipt of Application for a Presidential Permit to Construct a New Cattle Crossing to the East of an Existing Cattle Crossing Near San Luis, AZ

AGENCY: Department of State.

ACTION: Notice.

SUMMARY: Notice is hereby given that the Department of State has received an application for a Presidential permit authorizing the construction of a new cattle crossing (the “San Luis Cattle Crossing”) at the United States-Mexican border 2,500 feet (approximately half a mile) east of an existing cattle crossing near San Luis, Arizona. The closing of the existing cattle crossing and its relocation to a new location approximately half a mile to the east is necessitated by construction of the new San Luis II commercial border crossing (scheduled to begin in the summer of 2007) at the location of the existing cattle crossing. This application has been filed by the Greater Yuma Port Authority (GYPA), the original applicant for the San Luis II commercial border crossing project. A Presidential permit for the San Luis II commercial border crossing was issued by the Department of State, effective June 30, 2007, to the General Services Administration (GSA). The Department of State has determined that, under Executive Order 11423, as amended, a separate Presidential permit is required for the San Luis cattle crossing since it would constitute a new piercing of the border.

The Department of State's jurisdiction with respect to this application is based upon Executive Order 11423, dated August 16, 1968, as amended, which authorizes the Secretary of State to receive all applications for permits for the construction, connection, operation or maintenance at the borders of the United States of “border crossings for land transportation * * * to or from a foreign country” whether or not in conjunction with “facilities for the transportation of persons or things, or both, to or from a foreign country.” According to the application, the relocation of the existing San Luis cattle crossing would primarily involve the dismantling of the existing cattle pens (most of which are on the Mexican side of the border) and their construction or reassembly at the new site. The Department is in possession of an Environmental Assessment (EA) prepared in connection with the Department's evaluation of the Presidential permit application for the San Luis II commercial border crossing and intends to also use that EA in connection with its evaluation of the San Luis cattle crossing. The Department has determined, however, that this EA does not adequately address the issues of the odor and manure that would be generated at the proposed new cattle crossing site, as well as the issue of water and sewage services at the new cattle crossing site. In light of that determination, the GYPA has submitted to the Department of State an EA addendum that specifically addresses these environmental concerns. As provided in E.O. 11423, the Department is circulating the GYPA application, along with the EA and the EA Addendum, to concerned agencies for comment.

DATES: Interested parties are invited to submit written comments relative to this application on or before July 27, 2007 to Daniel D. Darrach, Coordinator, U.S.-Mexico Border Affairs, WHA/MEX, HST Room 4258, Department of State, 2201 C St., NW., Washington, DC 20520.

FOR FURTHER INFORMATION CONTACT: Daniel D. Darrach, Coordinator, U.S.-Mexico Border Affairs, WHA/MEX, HST Room 4258, Department of State, 2201 C St., NW., Washington, DC 20520. Telephone: (202) 647-8529, fax: (202) 647-5752.

SUPPLEMENTARY INFORMATION: The application and related documents that are a part of the record to be considered by the Department of State in connection with this application are available for review in the Office of Mexican Affairs, Border Affairs Unit, Department of State, during normal business hours throughout the comment period. Any questions related to this notice may be addressed to Mr. Darrach using the contact information above.

Dated: June 29, 2007.
Richard M. Sanders,
Acting Director, Office of Mexican Affairs, Department of State.

[FR Doc. E7-13212 Filed 7-6-07; 8:45 am]

BILLING CODE 4710-29-P